DEPARTMENT OF HEALTH AND HUMAN SERVICES

National Institutes of Health

Center for Scientific Review; Amended Notice of Meeting

Notice is hereby given of a change in the meeting of the Center for Scientific Review Special Emphasis Panel, March 18, 2022, 10:00 a.m. to March 18, 2022, 07:00 p.m., National Institutes of Health, Rockledge II, 6701 Rockledge Drive, Bethesda, MD 20892 which was published in the Federal Register on February 08, 2022, FR Doc 2122-02527, V-87, Number 26, Page 7194.

Meeting is being amended to change the Contact Person from James Li to David Filpula, Ph.D., Scientific Review Officer, Center for Scientific Review, National Institutes of Health. The meeting is closed to the public.

Dated: February 17, 2022.
David W. Freeman,
Program Analyst, Office of Federal Advisory Committee Policy.

[FR Doc. 2022-03820 Filed 2-22-22; 8:45 am]

BILLING CODE 4140-01-P